DEPARTMENT OF DEFENSE

Office of the Secretary

32 CFR Part 157

[DoD-2008-OS-0075; RIN 0790-AI33]

Reduction of Use of Social Security Numbers in the Department of Defense

AGENCY: Department of Defense.

ACTION: Notice addressing comments received on the proposed rule.

SUMMARY: The Department of Defense (DoD) published a proposed rule concerning the reduction of the use of social security numbers (SSN) in the Department on March 3, 2010 (75 FR 9548). The Department published the proposed rule because it intended to apply the SSN reduction policies and procedures to entities that contract with the Department. However, it has been determined that the Defense Federal Acquisition Regulation Supplement (DFARS) or another contract vehicle is a more appropriate way to apply these policies and procedures to these entities; therefore, a final rule in title 32 of the Code of Federal Regulations will not be published. DoD will publish internal guidance in an Instruction that will not contain language regarding contract companies since that guidance will be provided as noted above in a DFARS rule or other contract vehicle. This notice is being published to address the public comments received concerning the proposed rule.

FOR FURTHER INFORMATION CONTACT: Mr. Sam Yousef, 571-372-1939.

SUPPLEMENTARY INFORMATION: Seven sets of comments were received on the proposed rule and are addressed below. All comments are available upon request.

One commenter said that leave forms of military members or the Office of Personnel Management (OPM) Form 71 (Request for Leave or Approved Absence) for civilian employees should not include SSNs in whole or in part. As part of the ongoing review to reduce or eliminate the use of SSNs, the Department will review the forms to document leave usage by military members and will reduce or eliminate the use of SSNs on these forms as appropriate. The civilian employee leave form, OPM Form 71, was revised in September 2009, and requires the individual's Employee Number or only the last four digits of the SSN.

One commenter expressed concern that the SSN is required in order to receive treatment at medical facilities on military installations and that the SSN is printed on identification cards. Other commenters noted that due to the widespread use of SSNs on military installations, individuals are at risk for identity theft. The Department of Defense takes the security and protection of its personnel's Personally Identifiable Information (PII) very seriously. In order to reduce the use of the SSN and to better protect the identity of its members, the Department developed and released “Business Practice Changes to Allow the Removal of Social Security Numbers from DoD Identification (ID) Cards” in January 2009 and in November 2012 released an “Updated Plan for the Removal of Social Security Numbers (SSNs) from Department of Defense (DoD) Identification (lD) Cards,” that consisted of a comprehensive three-phased plan to reduce or eliminate SSN use on DoD ID cards:

—Phase 1 of the updated plan requires removal of SSNs from DoD ID Cards and began with removal of the dependent's SSN from Dependent ID cards in December 2008. Phase 1 will be complete in December 2012.

—Phase 2 of the plan began replacement of the SSN with the DoD ID Number and started in June 2011. Phase 2 will be complete in June 2015.

—Phase 3 of the plan will remove SSNs from ID card barcodes and is scheduled to begin in the 4th Quarter of Calendar Year 2012 and will take four years to complete.

A commenter, while also expressing concern with the use of SSNs for identification and record keeping purposes, recommended that secure methods be used when transmitting information that includes SSNs. The Department requires that the Privacy Act be complied with when storing or transmitting information that contains PII. Secured communication methods are required to be used when transmitting PII.

Another commenter also expressed concern with the extensive use of SSNs by DoD and recommended that an alternative identification number be used in lieu of the SSN. Another commenter recommended replacing the SSN with the DoD Electronic Data Interchange Personal Identifier (EDI-PI). Directive Type Memorandum (DTM) 07-015, “DoD Social Security Number (SSN) Reduction Plan” and DoD Instruction 1000.30, “Reduction of Social Security Number (SSN) Use Within DoD,” which supersedes DTM 07-015, require the DoD Forms Management Officer and the DoD Component Forms Management Officers to review SSN use and justifications on new and existing forms in their respective activities to reduce or eliminate the use of SSNs wherever possible. Additionally, these policies require the review and justification of SSN use in new and existing systems and to eliminate the use of SSNs wherever possible. The DoD ID Number, the common name for the EDI-PI, is identified by both policies as the primary alternative for the SSN. It is intended to support replacement of the SSN in most DoD processes and business needs. The DoD ID Number shall only be used for DoD business purposes. This may include transactions that include entities outside DoD, so long as individuals are acting on behalf of or in support of the Department of Defense. The DoD ID Number shall not be used to replace the SSN in any case where the SSN is required by law. All individuals eligible to receive DoD benefits, such as commissary, exchange, Morale, Welfare and Recreation or TRICARE purchased care, will, in addition to the DoD ID Number, receive a DoD Benefits Number that will be used to facilitate medical care in lieu of the SSN to the greatest extent permissible.

Dated: December 3, 2012.
Aaron Siegel,
Alternate OSD Federal Register Liaison Officer, Department of Defense.

[FR Doc. 2012-29504 Filed 12-5-12; 8:45 am]

BILLING CODE 5001-06-P